AGENCY FOR INTERNATIONAL DEVELOPMENT

Notice of Public Information Collection Requirements Submitted to OMB for Review

SUMMARY: U.S. Agency for International Development (USAID) has submitted the following information collection to ONE for review and clearance under the Paperwork Reduction Act of 1995, Public Law 10413. Comments regarding this information collection are best assured of having their full effect if received within 30 days of this notification. Comments should be addressed to: Desk Officer for USAID, Office of Information and Regulatory Affairs, Office of Management and Budget (OMB), Washington, DC 20503. Copies of submission may be obtained by calling (202) 712-1365.

SUPPLEMENTARY INFORMATION:

OMB Number: OMB 0412-New. Form Number: N/A.

Title: USAID Faith-Based and Community Organization Survey.

Type of Submission: New Information Collection.

Purpose: The Center for Faith-Based and Community Initiatives (CFBCI) supports the commitment from the White House and USAID to expand our partnership community by building broad and deep relationships with the nongovernmental organization (NGO) community at large. In order to better coordinate the Agency's work with NGOs and to improve the effectiveness and extent of the Agency's outreach to the NGO community, the CFECI is requesting to send out a voluntary electronic survey to contacts with NGOs who have previously interacted with or expressed interest in working with USAID and the CFBCI. The survey will request updated contact and organizational information on NGOs working in international development and humanitarian relief around the world. By collecting such information, the Agency will be able to engage these organizations in a more efficient and less duplicative way. In addition, it will allow the Agency to better monitor its success in engaging a broad range of NGOs.

Responding to the survey is optional. An organization's response or nonresponse will not have any impact—positive or negative on its future relationship with the Agency.

Annual Reporting Burden:

Respondents: 4,000.

Total annual responses: 4,000.

Total annual hours requested: 1,000 hours.

Dated: December 15, 2010.
Lynn P. Winston,
Acting Chief, Information and Records Division, Office of Management Services, Bureau of Management.

[FR Doc. 2010-32305 Filed 12-23-10; 8:45 am]

BILLING CODE 6116-01-M